DEPARTMENT OF TRANSPORTATION

National Highway Traffic Safety Administration

[Docket No. NHTSA-2003-15428]

Notice of Receipt of Petition for Decision That Nonconforming 2003-2004 Micro Car Company Smart Passion (Glass Top and Convertible) Passenger Cars Are Eligible for Importation

AGENCY: National Highway Traffic Safety Administration, DOT.

ACTION: Notice of receipt of petition for decision that nonconforming 2003-2004 Micro Car Company Smart Passion (glass top and convertible) passenger cars are eligible for importation.

SUMMARY: This document announces receipt by the National Highway Traffic Safety Administration (NHTSA) of a petition for a decision that 2003-2004 Micro Car Company Smart Passion (glass top and convertible) passenger cars that were not originally manufactured to comply with all applicable Federal motor vehicle safety standards are eligible for importation into the United States because they have safety features that comply with, or are capable of being altered to comply with, all such standards.

DATES: The closing date for comments on the petition is July 21, 2003.

ADDRESSES: Comments should refer to the docket number and notice number, and be submitted to: Docket Management, Room PL-401, 400 Seventh St., SW., Washington, DC 20590. (Docket hours are from 9 a.m. to 5 p.m.) Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78), or you may visit http://dms.dot.gov.

FOR FURTHER INFORMATION CONTACT: Coleman Sachs, Office of Vehicle Safety Compliance, NHTSA (202-366-3151).

SUPPLEMENTARY INFORMATION:

Background

Under 49 U.S.C. 30141(a)(1)(A), a motor vehicle that was not originally manufactured to conform to all applicable Federal motor vehicle safety standards shall be refused admission into the United States unless NHTSA has decided that the motor vehicle is substantially similar to a motor vehicle originally manufactured for importation into and sale in the United States, certified under 49 U.S.C. 30115, and of the same model year as the model of the motor vehicle to be compared, and is capable of being readily altered to conform to all applicable Federal motor vehicle safety standards. Where there is no substantially similar U.S.-certified motor vehicle, 49 U.S.C. 30141(a)(1)(B) permits a nonconforming motor vehicle to be admitted into the United States if its safety features comply with, or are capable of being altered to comply with, all applicable Federal motor vehicle safety standards based on destructive test data or such other evidence as NHTSA decides to be adequate.

Petitions for eligibility decisions may be submitted by either manufacturers or importers who have registered with NHTSA pursuant to 49 CFR part 592. As specified in 49 CFR 593.7, NHTSA publishes notice in the Federal Register of each petition that it receives, and affords interested persons an opportunity to comment on the petition. At the close of the comment period, NHTSA decides, on the basis of the petition and any comments that it has received, whether the vehicle is eligible for importation. The agency then publishes this decision in the Federal Register.

J.K. Technologies LLC of Baltimore, Maryland (“J.K.”) (Registered Importer 90-006) has petitioned NHTSA to decide whether nonconforming 2003-2004 Micro Car Company Smart Passion (glass top and convertible) passenger cars are eligible for importation into the United States. J.K. contends that these vehicles are eligible for importation under 49 U.S.C. 30141(a)(1)(B) because they have safety features that comply with, or are capable of being altered to comply with, all applicable Federal motor vehicle safety standards.

Specifically, the petitioner claims that 2003-2004 Micro Car Company Smart Passion (glass top and convertible) passenger cars have safety features that comply with Standard Nos. 103 Defrosting and Defogging Systems (based on testing for which J.K. is claiming confidentiality), 104 Windshield Wiping and Washing Systems (based on testing for which J.K. is claiming confidentiality), 106 Brake Hoses (based on the manufacturer's certification), 109 New Pneumatic Tires (based on the presence of required certification markings), 116 Brake Fluid (based on the presence of required markings), 118 Power Window Systems (based on observation of the system's operation), 124 Accelerator Control Systems (based on observation of the system's operation), 135 Passenger Car Brake Systems (based on testing for which J.K. is claiming confidentiality), 202 Head Restraints (based on testing for which J.K. is claiming confidentiality), 205 Glazing Materials (based on the presence of required certification markings), 206 Door Locks and Door Retention Components (based on observation of the components' operation), 207 Seating Systems (based on testing for which J.K. is claiming confidentiality), 210 Seat Belt Assembly Anchorages (based on testing for which J.K. is claiming confidentiality), 212 Windshield Retention (based on testing for which J.K. is claiming confidentiality), 216 Roof Crush Resistance (based on testing for which J.K. is claiming confidentiality), 219 Windshield Zone Intrusion (based on testing for which J.K. is claiming confidentiality), and 302 Flammability of Interior Materials (based on testing of driver's seat material, for which J.K. is claiming confidentiality, and comparison of the interior materials to those found on U.S.-certified vehicles produced by the same manufacturer).

Petitioner also contends that the vehicles are capable of being altered to meet the following standards, in the manner indicated:

Standard No. 101 Controls and Displays: (a) Inscription of the word “Brake” on the dash in place of the international ECE warning symbol; (b) replacement of the speedometer with one that reads in miles per hour. The petitioner states that it has fabricated a new instrument cluster face for the vehicles, available only through J.K. Technologies, which will allow the vehicles to achieve compliance with the standard.

Standard No. 102 Transmission Shift Lever Sequence: Installation of a redesigned starter interlock assembly, available only through J.K. Technologies, which was designed to allow the vehicles to comply with Standard No. 114, will also achieve compliance with Standard No. 102. The petition does not describe how this assembly was redesigned.

Standard No. 108 Lamps, Reflective Devices and Associated Equipment: Modification of the headlamp and marker light systems to meet this standard. These modifications are not described in the petition.

Standard No. 110 Tire Selection and Rims: Installation of a tire information placard as part of the certification label to be affixed to the vehicles upon the completion of required modifications to achieve conformity with applicable standards.

Standard No. 111 Rearview Mirror: Replacement of the passenger side rearview mirror with a mirror fabricated by, and available only through, J.K. Technologies, which will have the required warning statement on the mirror's face.

Standard No. 114 Theft Protection: Installation of a redesigned starter interlock assembly to meet this standard. The petition does not describe how the assembly was redesigned.

Standard No. 201 Occupant Protection in Interior Impact: Replacement of interior components with components fabricated by, and available only through, J.K. Technologies. The petitioner states that its testing, for which it is claiming confidentiality, establishes that the vehicles will meet the standard with these components installed.

Standard No. 204 Steering Control Rearward Displacement: Modification of the steering shaft to meet the standard. This modification is not described in the petition. The petitioner states that its testing, for which it is claiming confidentiality, establishes that the vehicles will meet the standard with this modification performed.

Standard No. 208 Occupant Crash Protection: Modification of the vehicles to meet this standard. These modifications are not described in the petition. The petitioner states that its testing, for which it is claiming confidentiality, establishes that the vehicles will meet the standard with these modifications performed.

Standard No. 209 Seat Belt Assemblies: Modification of the seat belt systems to accommodate a seat belt switch. This modification is not described in the petition. Petitioner states that with this modification, the vehicles' seat belt assemblies will comply with the standard.

Standard No. 214 Side Impact Protection: Modification of the vehicles' A-pillars, B-pillars, and doors. These modifications are not described in the petition. Petitioner states that with these modifications, the vehicles will meet the standard.

Standard No. 301 Fuel System Integrity: Modification of the vehicles' fuel system to meet this standard. Petitioner states that fuel spillage problems are controlled by the evaporative and ORVR systems, which have a rollover and check valve incorporated into their design and have been proven in testing.

The petitioner states that a vehicle identification number plate must be affixed to the vehicles near the left windshield post and a reference and certification label must be affixed in the area of the left front door post to meet the requirements of 49 CFR part 565.

Additionally, the petitioner states that 2003-2004 Micro Car Company Smart Passion (glass top and convertible) passenger cars must be modified to comply with the Bumper Standard found in 49 CFR part 581. The petition does not describe these modifications. The petitioner states that its testing, for which it is claiming confidentiality, establishes that the vehicles will meet the standard with these modifications performed.

Interested persons are invited to submit comments on the petition described above. Comments should refer to the docket number and be submitted to: Docket Management, Room PL-401, 400 Seventh St., SW., Washington, DC 20590. (Docket hours are from 9 a.m. to 5 p.m.) It is requested but not required that 10 copies be submitted.

All comments received before the close of business on the closing date indicated above will be considered, and will be available for examination in the docket at the above address both before and after that date. To the extent possible, comments filed after the closing date will also be considered. Notice of final action on the petition will be published in the Federal Register pursuant to the authority indicated below.

Authority: 49 U.S.C. 30141(a)(1)(B) and (b)(1); 49 CFR 593.8; delegations of authority at 49 CFR 1.50 and 501.8.

Issued on: June 12, 2003.
Kenneth N. Weinstein,
Associate Administrator for Enforcement.

[FR Doc. 03-15644 Filed 6-19-03; 8:45 am]

BILLING CODE 4910-59-P